DEPARTMENT OF ENERGY

Federal Energy Regulatory Commission

Combined Notice of Filings #1

Take notice that the Commission received the following electric rate filings:

Docket Numbers: ER16-905-001.

Applicants: Comanche Solar PV, LLC.

Description: Notice of Non-Material Change in Status of Comanche Solar PV, LLC.

Filed Date: 6/15/17.

Accession Number: 20170615-5191.

Comments Due: 5 p.m. ET 7/6/17.

Docket Numbers: ER17-1774-000.

Applicants: NextEra Energy Bluff Point, LLC.

Description: Clarification to June 8, 2017 NextEra Energy Bluff Point, LLC tariff filing.

Filed Date: 6/15/17.

Accession Number: 20170615-5208.

Comments Due: 5 p.m. ET 7/6/17.

Docket Numbers: ER17-1842-000.

Applicants: Southwest Power Pool, Inc.

Description: § 205(d) Rate Filing: 1884R6 Westar Energy, Inc. NITSA and NOA to be effective 9/1/2017.

Filed Date: 6/16/17.

Accession Number: 20170616-5022.

Comments Due: 5 p.m. ET 7/7/17.

Docket Numbers: ER17-1843-000.

Applicants: Southwest Power Pool, Inc.

Description: § 205(d) Rate Filing: 1885R6 Westar Energy, Inc. NITSA and NOA to be effective 9/1/2017.

Filed Date: 6/16/17.

Accession Number: 20170616-5023.

Comments Due: 5 p.m. ET 7/7/17.

Docket Numbers: ER17-1844-000.

Applicants: Southwest Power Pool, Inc.

Description: § 205(d) Rate Filing: 1978R6 Westar Energy, Inc. NITSA and NOA to be effective 9/1/2017.

Filed Date: 6/16/17.

Accession Number: 20170616-5024.

Comments Due: 5 p.m. ET 7/7/17.

Docket Numbers: ER17-1845-000.

Applicants: Lazarus Energy Holdings, LLC.

Description: Compliance filing: Revision to Lazarus Energy MBR Tariff to be effective 6/15/2017.

Filed Date: 6/16/17.

Accession Number: 20170616-5043.

Comments Due: 5 p.m. ET 7/7/17.

Take notice that the Commission received the following electric securities filings:

Docket Numbers: ES17-36-000.

Applicants: The United Illuminating Company.

Description: Application of The United Illuminating Company to issue short term securities under Section 204.

Filed Date: 6/14/17.

Accession Number: 20170614-5060.

Comments Due: 5 p.m. ET 7/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 16, 2017.
Nathaniel J. Davis, Sr.,
Deputy Secretary.

[FR Doc. 2017-13086 Filed 6-22-17; 8:45 am]

BILLING CODE 6717-01-P